DEPARTMENT OF TRANSPORTATION

Office of the Secretary

Aviation Proceedings, Agreements Filed During the Week Ending April 14, 2000

The following Agreements were filed with the Department of Transportation under the provisions of 49 U.S.C. Sections 412 and 414. Answers may be filed within 21 days after the filing of the application.

Docket Number: OST-2000-7234.

Date Filed: April 11, 2000.

Parties: Members of the International Air Transport Association.

Subject:

PTC2 AFR 0078 dated 29 February 2000 (Mail Vote 068)

TC2 Within Africa Resolutions r1-r29

PTC2 AFR 0081 dated 24 March 2000

Adopting Mail Vote 068

Minutes—PTC2 AFR 0079 dated 29 February 2000

TC2 Africa Policy Group Report

Tables—PTC2 AFR FARES 0030 dated 4 April 2000

Intended effective date: 1 May 2000

Andrea M. Jenkins,
Federal Register Liaison.

[FR Doc. 00-11688 Filed 5-9-00; 8:45 am]

BILLING CODE 4910-62-P